ENVIRONMENTAL PROTECTION AGENCY

[EPA-HQ-OPPT-2015-0436; FRL-11645-01-OMS]

Agency Information Collection Activities; Submission to the Office of Management and Budget for Review and Approval; Comment Request; Generic Clearance for TSCA Section 4 Test Rules, Test Orders, Enforceable Consent Agreements (ECAs), Voluntary Data Submissions, and Exemptions From Testing Requirements (Renewal)

AGENCY: Environmental Protection Agency (EPA).

ACTION: Notice.

SUMMARY: The Environmental Protection Agency (EPA) has submitted an information collection request (ICR), Generic Clearance for TSCA Section 4 Test Rules, Test Orders, Enforceable Consent Agreements (ECAs), Voluntary Data Submissions, and Exemptions from Testing Requirements (EPA ICR Number 1139.48, OMB Control Number 2070-0033) to the Office of Management and Budget (OMB) for review and approval in accordance with the Paperwork Reduction Act. This is a proposed extension of the ICR, which is currently approved through December 31, 2023. Public comments were previously requested via the Federal Register on November 2, 2021, during a 60-day comment period. This notice allows for an additional 30-days for public comments.

DATES: Comments must be received on or before January 29, 2024.

ADDRESSES: Submit your comments, referencing Docket ID No. EPA-HQ-OPPT-2015-0436, to EPA online using https://www.regulations.gov (our preferred method) or by mail to: EPA Docket Center, Environmental Protection Agency, Mail Code 28221T, 1200 Pennsylvania Ave. NW, Washington, DC 20460. EPA's policy is that all comments received will be included in the docket without change, including any personal information provided, unless the comment includes profanity, threats, information claimed to be Confidential Business Information (CBI), or other information whose disclosure is restricted by statute.

Submit written comments and recommendations to OMB for the proposed information collection within 30 days of publication of this notice to https://www.reginfo.gov/public/do/PRAMain. Find this particular information collection by selecting “Currently under 30-day Review—Open for Public Comments” or by using the search function.

FOR FURTHER INFORMATION CONTACT: Katherine Sleasman, Mission Support Division (7101M), Office of Program Support, Office of Chemical Safety and Pollution Prevention, Environmental Protection Agency, 1200 Pennsylvania Ave. NW, Washington, DC 20460-0001; telephone number: (202) 566-1204; email address: sleasman.katherine@epa.gov.

SUPPLEMENTARY INFORMATION: This is a proposed extension of the ICR which is currently approved through December 31, 2023. An agency may not conduct or sponsor and a person is not required to respond to a collection of information unless it displays a currently valid OMB control number.

Public comments were previously requested via the Federal Register on November 2, 2021, during a 60-day comment period (86 FR 60460). This notice allows for an additional 30 days for public comments. Supporting documents, which explain in detail the information that the EPA will be collecting, are available in the public docket for this ICR. The docket can be viewed online at https://www.regulations.gov or in person at the EPA Docket Center, WJC West, Room 3334, 1301 Constitution Ave. NW, Washington, DC. The telephone number for the Docket Center is 202-566-1744. For additional information about EPA's public docket, visit https://www.epa.gov/dockets.

Abstract: The generic ICR addresses the information collection activities associated with the authorities provided to EPA under TSCA section 4 (15 U.S.C. 2603), which allows EPA to require the development of information related to chemicals to inform EPA and other federal agencies about chemical risks, which in turn will inform decision makers for purposes of prioritization, risk evaluation and risk management of those chemicals.

Respondents/affected Entities: Entities potentially affected by this ICR are manufacturers (including imports) or processors of chemical substances of mixtures, e.g., entities identified by North American Industrial Classification System Codes 325 and 324.

Respondent's obligation to respond: Mandatory per 15 U.S.C. 2603.

Estimated number of respondents: 263.

Frequency of response: On occasion.

Total estimated burden: 114,561 hours (three year total). Burden is defined at 5 CFR 1320.3(b).

Total estimated costs: $27,261,789 (three year total), including $17,725,254 capital or operation and maintenance costs.

Changes in the estimates: The annual estimated labor burden associated with testing costs increased by 5,749 hours. Updates were made to reflect testing burden and labor costs for activities associated with contacting laboratories and arranging testing and sample collection. In addition, the 5,749 also accounts for the burden being merged into this ICR that is associated with activities associated with contacting laboratories and arranging testing as well as reviewing guidance documents and pre-issuance outreach for Test Orders. The estimated non-labor testing costs increased due to inflation. With the increase in testing costs as well as increases in labor and overhead costs over time, the annual costs to the industry respondents increased by $1,014,408.

Courtney Kerwin,
Director, Information Engagement Division.

[FR Doc. 2023-28663 Filed 12-27-23; 8:45 am]

BILLING CODE P